ENVIRONMENTAL PROTECTION AGENCY

[ER-FRL-8596-2]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146.

An explanation of the ratings assigned to draft environmental impact statements (EISs) was published in FR dated July 17, 2009 (74 FR 34754).

Draft EISs

EIS No. 20090176, ERP No. D-FHW-L40237-WA, WA-502 Corridor Widening Project, Proposes Improvements to Five Miles of WA-502 (NE-219th Street) between NE 15th Avenue and NE 102nd Avenue, Funding, Clark County, WA.

Summary: EPA expressed environmental concerns about wetland mitigation, ecological connectivity issues and stormwater impacts. EPA requested additional analysis of indirect and cumulative effects of travel and land use change, mobile source air toxics, and invasive species. Rating EC2.

EIS No. 20090179, ERP No. D-AFS-K65367-CA, Klamath National Forest Motorized Route Designation, Motorized Travel Management, (Formerly Motorized Route Designation), Implementation, Siskiyou County, CA.

Summary: EPA expressed environmental concerns about water resource impacts, and asbestos impacts, and requested additional information on monitoring, enforcement commitments, effects of climate change, and future planning for specific designated routes. Rating EC2.

Final EISs

EIS No. 20090213, ERP No. F-USN-E11068-00, Undersea Warfare Training Range Project, Installation and Operation, Preferred Site Jacksonville Operating Area, FL and Alternative Sites (within the Charleston, SC; Cherry Point, NC; and VACAPES Operating Areas, VA.

Summary: EPA expressed environmental concerns about impacts to the marine environment from the deposition of expended training materials.

EIS No. 20090214, ERP No. F-CGD-A03086-00, PROGRAMMATIC—Vessel and Facility Response Plans for Oil: 2003 Removal Equipment Requirements and Alternative Technology Revisions, To Increase the Oil Removal Capability, U.S. Exclusive Economic Zone (EEZ), United States, Alaska, Guam, Puerto Pico and other U.S. Territories.

Summary: EPA continues to have environmental concerns about the potential environmental impacts from dispersant application.

EIS No. 20090201, ERP No. FS-AFS-K65281-CA, Brown Project, Revised Proposal to Improve Forest Health by Reducing Overcrowded Forest Stand Conditions, Trinity River Management Unit, Shasta-Trinity National Forest, Weaverville Ranger District, Trinity County, CA

Summary: No formal comment letter was sent to preparing agency.

Dated: August 4, 2009.
Robert W. Hargrove,
Director, NEPA Compliance Division Office of Federal Activities.

[FR Doc. E9-18967 Filed 8-6-09; 8:45 am]

BILLING CODE 6560-50-P